DEPARTMENT OF ENERGY

Contractor Employee Pension and Medical Benefits

AGENCY: Office of Management, Department of Energy.

ACTION: Notice of availability.

SUMMARY: The Office of Management is announcing the availability of a summary of the public comments it received in response to a request for public comments on the challenge the Department of Energy (Department) confronts with respect to the costs and liabilities associated with contractor employee pension and medical benefits. The Department's request for comments was published in the Federal Register on March 27, 2007.

ADDRESSES: The summary of public comments is available on the Internet at http://management.energy.gov/.

FOR FURTHER INFORMATION CONTACT: Ms. Stephanie Weakley, Office of Procurement and Assistance Management, U.S. Department of Energy, 1000 Independence Avenue, SW., Washington, DC, 20585, 202-287-1645.

SUPPLEMENTARY INFORMATION:

I. Background

On April 26, 2006, the Department issued Department of Energy Notice 351.1, Contractor Employee Pension and Medical Benefits Policy, which updated and revised the Department's policy concerning reimbursement of Management and Operating (M&O) and other site management contractor pension and medical benefit costs. On June 19, 2006, the Secretary of Energy suspended implementation of the revised policy to permit consultation with stakeholders about the purpose of the Notice.

On March 27, 2007, the Department published a Federal Register notice (72 FR 14266) seeking public comments and/or recommendations on how the Department should address the challenge it faces due to the increasing costs and financial liabilities associated with the reimbursement of contractor employee pension and medical benefit costs. The Office of Management established a Web site for the public to submit their comments and/or recommendations on how the Department should address this financial challenge.

The Office of Management received approximately 475 comments in response to the March 27, 2007, request for public comments. The overwhelming majority of comments were from current and retired Department employees who did not support the new policy in the suspended DOE Notice 351.1. The remainder of the comments were submitted by private citizens, labor unions, and actuarial firms. As a result of its stakeholder outreach and consideration of public comments, the Department decided not to reissue DOE N 351.1 after it expired by its terms on April 27, 2007. The Department is not contemplating further action with regard to contractor employee pension and medical benefits at this time.

Issued in Washington, DC, on October 15, 2007.
Ingrid Kolb,
Director of Management, U.S. Department of Energy.

[FR Doc. E7-20801 Filed 10-22-07; 8:45 am]

BILLING CODE 6450-01-P